DEPARTMENT OF COMMERCE

International Trade Administration

[A-570-827]

Certain Cased Pencils From the People's Republic of China: Final Results of Antidumping Duty Administrative Review; 2014-2015

AGENCY: Enforcement and Compliance, International Trade Administration, Department of Commerce.

SUMMARY: On November 21, 2016, the Department of Commerce (the Department) published the preliminary results and rescission, in part, of the administrative review of the antidumping duty order on certain cased pencils (pencils) from the People's Republic of China (PRC). This review covers one company, Shandong Rongxin Import & Export Co., Ltd. (Rongxin), for the period of review (POR) December 1, 2014, through November 30, 2015. The Department continues to find that Rongxin has not established its eligibility for a separate rate, and, thus, should be treated as part of the PRC-wide entity.

DATES: Effective May 30, 2017.

FOR FURTHER INFORMATION CONTACT: Mary Kolberg, AD/CVD Operations, Office I, Enforcement and Compliance, International Trade Administration, Department of Commerce, 1401 Constitution Avenue NW., Washington, DC 20230; telephone: (202) 482-1785.

SUPPLEMENTARY INFORMATION:

Background

The Department published its Preliminary Results in this administrative review on November 21, 2016.¹ We invited interested parties to comment on the preliminary results. Rongxin filed a case brief on December 21, 2016.² We received a rebuttal brief from Dixon Ticonderoga Company (Dixon), a petitioner in the underlying investigation, on December 28, 2016.³ The Department found that Dixon's rebuttal brief contained untimely filed new factual information and requested that Dixon resubmit its rebuttal brief without this information.⁴ Dixon submitted its revised rebuttal brief on January 17, 2017.⁵ On March 10, 2017, we determined that additional time was necessary to analyze the arguments submitted by parties and extended the deadline for completion of the final results by 60 days to May 22, 2017.⁶

¹ See Certain Cased Pencils from the People's Republic of China: Preliminary Results of Antidumping Duty Administrative Review and Partial Rescission; 2014-2015, 81 FR 83201 (November 21, 2016) (Preliminary Results).

² See Letter from Rongxin, re: “Cased Pencils from the People's Republic of China: CASE BRIEF,” dated December 21, 2016.

³ See Letter from Dixon, “Certain Cased Pencils from the People's Republic of China, Administrative Review POR 12/01/14-11/30/15: Rebuttal Brief of Dixon Ticonderoga Company,” dated December 28, 2016.

⁴ See Letter from the Department to Dixon, “Rebuttal Brief: Certain Cased Pencils from the People's Republic of China, 2014-2015 Administrative Review,” dated January 11, 2017.

⁵ See Letter from Dixon, “Certain Cased Pencils from the People's Republic of China, Administrative Review POR 12/01/14-11/3015: Revised Rebuttal Brief of Dixon Ticonderoga Company,” dated January 17, 2017.

⁶ See Memorandum, “Cased Pencils from the People's Republic of China: Extension of Time Limit for Final Results of the Antidumping Duty Administrative Review,” dated March 10, 2017.

Scope of the Order

The merchandise subject to the order includes certain cased pencils from the PRC. The subject merchandise is currently classifiable under Harmonized Tariff Schedule of the United States (HTSUS) subheading 9609.1010. A full description of the scope of the order is contained in the Issues and Decision Memorandum.⁷ Although the HTSUS subheadings are provided for convenience and customs purposes, the written product description is dispositive.

⁷ See Memorandum, “Issues and Decision Memorandum for Final Results of Antidumping Duty Administrative Review: Certain Cased Pencils from the People's Republic of China; 2014-2015,” dated concurrently with and hereby adopted by this notice (Issues and Decision Memorandum).

Analysis of Comments Received

All issues raised in the case and rebuttal briefs by parties in this review are addressed in the Issues and Decision Memorandum, which is hereby adopted by this notice. A list of the issues which parties raised is attached to this notice as an appendix. The Issues and Decision Memorandum is a public document and is on file electronically via Enforcement and Compliance's Antidumping and Countervailing Duty Centralized Electronic Service System (ACCESS). ACCESS is available to registered users at https://access.trade.gov, and it is available to all parties in the Central Records Unit, Room B8024 of the main Department of Commerce building. In addition, a complete version of the Issues and Decision Memorandum can be accessed directly on the Internet at http://trade.gov/enforcement.

Final Results of Review

The Department continues to find that Rongxin has not established its eligibility for a separate rate and is part of the PRC-wide entity. The rate applicable to the PRC-wide entity is 114.90 percent.⁸

⁸ See Notice of Amended Final Results and Partial Rescission of Antidumping Duty Administrative Review: Certain Cased Pencils from the People's Republic of China, 67 FR 59049 (September 19, 2002). The Department's change in policy regarding conditional review of the PRC-wide entity applies to this review. See Antidumping Proceedings: Announcement of Change in Department Practice for Respondent Selection in Antidumping Duty Proceedings and Conditional Review of the Nonmarket Economy Entity in NME Antidumping Duty Proceedings, 78 FR 65963 (November 4, 2013). Under this policy, the PRC-wide entity will not be under review unless a party specifically requests, or the Department self-initiates, a review of the entity. See Notice of Amended Final Results and Partial Rescission of Antidumping Duty Administrative Review: Certain Cased Pencils from the People's Republic of China, 67 FR 59049 (September 19, 2002).

Assessment Rates

Upon issuing the final results of review, the Department will determine, and U.S. Customs and Border Protection (CBP) shall assess, antidumping duties on all appropriate entries covered by this review.⁹ The Department intends to issue appropriate assessment instructions to CBP 15 days after publication of the final results of review. In particular, we intend to instruct CBP to liquidate entries of subject merchandise exported by Rongxin during the POR, at the current rate for the PRC-wide entity (i.e., 114.90 percent).

⁹ See section 751(a)(2)(C) of the Tariff Act of 1930, as amended, (the Act), and 19 CFR 351.212(b)(1).

The final results of this review shall be the basis for the assessment of antidumping duties on entries of merchandise covered by the final results of this review and for future cash deposits of estimated antidumping duties, where applicable.

Cash Deposit Requirements

The following cash deposit requirements will be effective upon publication of the final results of this administrative review for shipments of the subject merchandise from the PRC entered, or withdrawn from warehouse, for consumption on or after the publication date, as provided by section 751(a)(2)(C) of the Act: (1) For previously investigated or reviewed PRC and non-PRC exporters not listed above that received a separate rate in a prior segment of this proceeding, the cash deposit rate will continue to be the existing exporter-specific rate; (2) for all PRC exporters of subject merchandise that have not established their eligibility for a separate rate, the cash deposit rate will be that for the PRC-wide entity (i.e.,114.90 percent); and (3) for all non-PRC exporters of subject merchandise which have not received their own rate, the cash deposit rate will be the rate applicable to the PRC exporter that supplied that non-PRC exporter. These cash deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Administrative Protective Orders

This notice also serves as a reminder to parties subject to administrative protective orders (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

We are issuing and publishing these results in accordance with sections 751(a)(1) and 777(i)(1) of the Act, 19 CFR 351.213, and 351.221(b)(5).

Dated: May 22, 2017.
Gary Taverman
Deputy Assistant Secretary for Antidumping and Countervailing Duty Operations.

Appendix I

List of Topics Discussed in the Issues and Decision Memorandum

I. Summary

II. Background

III. Scope of the Order

IV. Discussion of the Issues

Comment 1: Whether Dixon Has Standing as an Interested Party to Request an Administrative Review of Rongxin

Comment 2: Whether Rongxin is Eligible for a Separate Rate

Comment 3: Whether the Department is Required to Treat China as a Market-Economy Country

V. Recommendation

[FR Doc. 2017-11053 Filed 5-26-17; 8:45 am]

BILLING CODE 3510-DS-P